DEPARTMENT OF TRANSPORTATION

Federal Railroad Administration

Safety Advisory 2006-01

AGENCY: Federal Railroad Administration (FRA), Department of Transportation (DOT).

ACTION: Notice of safety advisory.

SUMMARY: FRA is issuing Safety Advisory 2006-01, in order to provide the industry additional information on the potential catastrophic failure of certain railroad freight car side frame castings manufactured by National Castings of Mexico's (NCM) Sahagun, Mexico facility and Buckeye Steel Castings' (Buckeye) Columbus, Ohio facility. The purpose of this safety advisory is to recommend that the rail industry carefully inspect these specific side frames when equipped freight cars are in shops or on repair tracks.

FOR FURTHER INFORMATION CONTACT: Ronald Newman, Staff Director, Motive Power and Equipment Division (RRS-14), FRA Office of Safety Assurance and Compliance, 1120 Vermont Avenue, NW., Washington, DC 20590, telephone: (202) 493-6241 or Thomas Herrmann, Staff Attorney, FRA Office of Chief Counsel, 1120 Vermont Avenue, NW., Washington, DC 20590, telephone: (202) 493-6036.

SUPPLEMENTARY INFORMATION: The standard three (3) piece railroad freight car truck (comprised of a bolster and two side frames) is a critical safety component which transmits the load of the freight car and its lading to the rail and track structure. Any crack or failure detected in critical load bearing areas of these components can result in a serious derailment. There have been six (6) reported in-service failures of side frames manufactured by either NCM or Buckeye. Three of these in-service failures have resulted in a derailment. These include: Car DTTX 723603 on December 8, 2004, on BNSF Train QOIGCHI104 near Ottawa, Kansas; Car DTTX 724557 on December 14, 2004, on CSXT Train Q112-13 near Fostoria, Ohio; and Car UP 28414 on September 10, 2005, on UP Train CCOTSH05 near Hanna, Wyoming.

Preliminary information indicates that there are three pattern types produced by these manufacturers most susceptible to failure. Most of the side frames that have failed to date had received some type of welded repair during the manufacturing process. In addition, preliminary analysis has in some cases indicated porosity and possible hardness problems with the involved castings. The following table identifies the three pattern numbers of side frames manufactured by NCM and Buckeye that may have the potential to fail while in-service.

Manufacturer | Type | Service | AAR designation | Pattern number
Buckeye | Barber S-2-D | 263/286K GRL | F-9S-11FN-UA | F-10103-B85
NCM | Barber S-2-HD | 263/286K GRL | F9S-06BN-UA | 52120
NCM | Barber S-2-E | 263/286K GRL | F9S-14FN-UA | 53180

FRA has previously issued Safety Advisory 2003-03 and Emergency Order No. 23. See 68 FR 65982 (November 24, 2003) and 69 FR 23850 (April 30, 2004). Both of these documents address the potential safety problems related to certain truck bolsters manufactured at the NCM, Sahagun, Mexico facility.

Recommended Action: In recognition of the need to assure safety, FRA recommends that railroads carefully inspect the side frames identified in this advisory when any freight car equipped with the involved side frames is on a shop or repair track. Railroad freight cars equipped with side frames in these pattern numbers should receive a careful inspection of the side frames at the inner corner radius (spring nest and outboard sides) of the pedestal jaw opening (field or gage side) at the transition from the pedestal roof. There are eight (8) locations per side frame that should receive close visual inspection. (See Figure 1). Any evidence of cracking and/or missing material in the corner radius areas is cause for replacement.

FRA will continue to monitor the rail industry's voluntary action and may consider pursuing other measures to ensure public safety. FRA may modify Safety Advisory 2006-01, issue additional safety advisories, or take other appropriate action necessary to ensure the highest level of safety on the nation's railroads.

Issued in Washington, DC, on March 2, 2006.
Grady C. Cothen, Jr.,
Deputy Associate Administrator for Safety Standards and Program Development.

[FR Doc. 06-2164 Filed 3-7-06; 8:45 am]

BILLING CODE 4910-06-P